DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 63982-63983, dated October 25, 2013) is amended to reorganize the Office of Surveillance, Epidemiology and Laboratory Services, Centers for Disease Control and Prevention.

Section C-B, Organization and Functions, is hereby amended as follows:

Delete in its entirety the titles and functional statements for the Office of Surveillance, Epidemiology and Laboratory Services (CP) and insert the following:

Office of Public Health Scientific Services (CP). The Office of Public Health Scientific Services (OPHSS) is to lead, promote, and facilitate science, standards and policies to reduce the burden of diseases in the United States and globally.

Office of the Director (CPA). (1) Serves as the principal advisor to the Centers for Disease Control and Prevention (CDC) Director on informatics issues; (2) assists the CDC Director in formulating and communicating strategic initiatives and policies involving health statistics, informatics, surveillance, epidemiology and laboratory practices; (3) represents the CDC Director externally on key informatics issues; (4) provides strategic leadership to the National Center for Health Statistics (NCHS) and the Center for Surveillance, Epidemiology and Laboratory Services (CSELS); (5) ensures agency-wide strategic approaches to informatics, surveillance, data access, workforce development and laboratory practices; (6) identifies approaches for increasing the use of electronic health records (EHRs) as part of an integrated strategy for public health surveillance; (7) leads efforts to improve public health data access and analytical methods; (8) leads the development of an efficient, sustainable and integrated network of public health laboratories; (9) leads efforts to prepare the public health workforce to meet present and anticipate future challenges; (10) facilitates relevant and meaningful collaborations across NCHS and CSELS; and (11) ensures the timely availability of statistical health information.

Health Information Technology and Surveillance Strategy Unit (CPA3). As the OPHSS' primary focal point, the unit leads collaborative activities at multiple levels and with multiple partners to ensure CDC maintains a leadership role in the development of strategy, policy, future solutions and issues relating to improvements in integrating health information technology (HIT), public health surveillance and biosurveillance strategies with the ultimate goal of strengthening public health. This unit: (1) Leads and manages a network of intersects with CDC's key state, territorial, local and tribal (STLT) partner organizations and their members through routine work groups and collaboration forums to collaboratively develop solutions in the areas of HIT, public health surveillance and biosurveillance to strengthen public health at the federal and STLT levels; (2) leads and manages CDC's interactions with other federal agencies to ensure CDC maintains its leadership role in the areas of HIT, public health surveillance and biosurveillance, including representing CDC on the Department of Homeland Security's National Biosurveillance Integration Oversight Committee, the White House National Security Staff's Sub-Interagency Policy Committee on Biosurveillance and management of a federal Biosurveillance Work Group resulting in CDC's coordinated input into federal government wide policies, initiatives and products; (3) serves as the primary point of contact for CDC health HIT activities with the Office of the National Coordinator for Health Information Technology (ONC) and the Centers for Medicare and Medicaid Services; (4) leads and manages a network of intersects within CDC to ensure initiatives and activities are coordinated and complimentary in the areas of HIT, public health surveillance and biosurveillance to include the management of the CDC's EHR Forum, the Biosurveillance Leadership Team, and the OPHSS/Office of Infectious Diseases monthly leadership meeting; (5) leads the work, education, communication and coordinated activities necessary to ensure CDC is involved in and contributes to electronic health information exchange, specifically, Meaningful Use (MU) through the convening of EHR/MU advisory groups, the provision of appropriate technical assistance to CDC programs and STLT partners, the convening of national communities of practice (with ONC), and the education of CDC programs on EHR/MU; (6) maintains leadership and consultation to various federal advisory committees; and (7) maintains and utilizes the National Public Health Surveillance and Biosurveillance Registry for Human Health, which catalogs CDC surveillance-related systems, programs, collaboratives, registries, and tools, and provides reports from the Registry to support and promote coordinated actions and efficiencies in surveillance activities throughout the Agency.

Delete in its entirety the titles and functional statements for the Laboratory Science Policy and Practice Program Office (CPG), Epidemiology and Analysis Program Office (CPK), Scientific Education and Professional Development Program Office (CPI) and the Public Health Surveillance and Informatics Program Office (CPM).

After the National Center for Health Statistics (CPC), insert the following:

Center for Surveillance, Epidemiology and Laboratory Services (CPN). The primary mission of the Center for Surveillance, Epidemiology and Laboratory Services (CSELS) is to provide scientific service, expertise, skills, and tools in support of CDC' national efforts to promote health; prevent disease, injury and disability; and prepare for emerging health threats.

Office of the Director (CPN1). (1) Manages, directs, coordinates, and evaluates the activities of the Center; (2) develops goals and objectives and provides leadership, policy formation, scientific oversight, and guidance in program planning and development; (3) develops strategic planning and briefing materials; (4) reviews and evaluates programmatic data to identify options for enhancing program effectiveness; (5) coordinates activities related to long- and short-range health communications plans; (6) provides and coordinates business, policy, and communication and information technology (IT) activities for the Center; (7) manages, develops, plans, coordinates, edits and produces the Morbidity and Mortality Weekly Report (MMWR) series of publications including the MMWR Recommendations and Reports, CDC Surveillance Summaries, and Annual Summary of Notifiable Diseases; (8) manages the CDC Vital Signs program; (9) serves as primary liaison with the Office of State, Tribal, Local, and Territorial Support relating to Center activities at the state and local levels; (10) collaborates, as appropriate, with other CDC Centers/Institute/Offices (CIOs) other Department of Health and Human Services (HHS) agencies, and other federal agencies; (11) provides leadership on genomics activities and planning; (12) manages and coordinates program and laboratory integration opportunities for the Center; and (13) identifies program priorities through strategic planning and other processes as appropriate.

Morbidity and Mortality Weekly Report Activity (CPN12). (1) Manages the MMWR series of publications including the MMWR Recommendations and Reports, CDC Surveillance Summaries, and Annual Summary of Notifiable Diseases; and (2) develops, plans, coordinates, edits, and produces the MMWR series, including the MMWR Recommendations and Reports, CDC Surveillance Summaries, and Annual Summary of Notifiable Diseases.

Vital Signs Activity (CPN13). (1) Manages the CDC Vital Signs program, which offers recent data and calls to action for important public health issues; (2) produces CDC Vital Signs which includes an MMWR Early Release, a fact sheet and Web site, a media release, and a series of announcements via social media tools; and (3) leads an agency-wide call to action each month concerning a single, important public health topic.

Policy Activity (CPN14). (1) Serves as the Center liaison to HHS and Congressional offices; (2) analyzes bills and other legislative activities; (3) develops, reviews and finalizes Congressional testimony and briefing documents; (4) coordinates budget formulation and performance planning; (5) supports the Center's divisions through developing appropriate policy capacity; (6) manages cross-cutting policy issues within the Center and as appropriate, with other CIO and Office of the Director (OD) offices within CDC; (7) coordinates with the Center director and management officer the formulation of the Center budget; (8) liaises with the CDC Office of the Associate Director for Policy on Congressional, legislative, and other inquiries; (9) maintains liaison with Congress on matters including appropriations, legislative bill tracking, and legislative requests, testimony for hearings, congressional inquiries, etc.; (10) develops policy- and program-related materials and talking points; (11) oversees the preparation and routing of controlled correspondence; (12) maintains liaison with key CDC offices and individuals working on public health policies and legislative issues; (13) serves as liaison to governmental and nongovernmental partners on policy-related issues; (14) oversees priority issues management and proactive and reactive strategic media efforts; and (15) conducts environmental analysis in response to short-term issues to be shared with leadership and program managers.

Office of Public Health Genomics (CPN15). (1) Integrates genomics responsibly and effectively into health care and disease prevention; (2) serves CDC programs, other federal agencies, state health departments, and other external partners by identifying, evaluating, and implementing evidence-based genomics practices to prevent and control the country's leading chronic, infectious, environmental, and occupational diseases; (3) supports policy, education, and surveillance framework to promote effective implementation of evidence-based recommendations for genomic tests and family health history applications that can save lives now, and those applications that will emerge in the next decade and beyond; (4) fosters public health genomics programs at the state and national level by providing ongoing consultation and tools to state health departments, CDC programs, and other stakeholders to share successful approaches to promote the appropriate use of genomic tests; (5) evaluates key emerging genomic applications with the potential to impact population health; (6) supports the Evaluation of Genomic Applications in Practice and Prevention Working Group in the development of an evidence framework for introducing whole genome sequencing into practice, assessing the role of genomics and family history in recommendations for colorectal cancer screening; identifies new emerging genomic applications with the potential to impact population health through horizon scanning and evidence summaries of validity and utility; and communicate evidence-based messages through well-established communications channels, including the Office of Public Health Genomics' (OPHG) Genomics and Health Impact Update & Blog, CDC Expert Commentary Series on Medscape, OPHG Web site, publications, and other means.

Communications Activity (CPN16). (1) Formulates strategic media objectives for advancing program priorities and addressing identified long-range issues; (2) oversees th0 implementation of strategic media plans through several functional areas; (3) develops and implements all proactive media outreach and reactive media responses for the Center: (4) provides media training and technical assistance, as appropriate; (5) serves as liaison to key offices for obtaining CDC and HHS media clearance on products/activities; (6) serves as the principal advisor to Center on communication and marketing science, research and practice; (7) provides oversight to ensure the quality and science of health communication and marketing campaigns and products; (8) coordinates activities related to long- and short-range health communications plans; (9) develops web strategies and support; and (10) facilitates strategies and plans for utilization of virtual conference and training platforms.

Informatics Innovation Unit (CPN17). (1) Advances the field of public health informatics for CSELS and the Agency through applied research and innovation; (2) collaborates with members of CDC programs as well as the broader public health community to develop innovative technologies and techniques to positively impact public health practice; (3) transitions new informatics solutions, standards, and techniques to th(i appropriate public health programs for deployment and implementation; (4) provides CDC and its external research and public health partners, consultation, evaluation, guidance, support (including innovative web activities) and insight into the use of new informatics solutions for public health practice; (5) provides consultation to CDC programs for innovative solutions and lab infrastructure for research and development to support innovative program-driven solutions; (6) leverages its resources to rapidly create prototypes and examine hypotheses generated by CSELS, CDC, and its external research' and public health partners; (7) conducts pilot projects to test and evaluate efficacy of hypotheses generated by CSELS, CDC, and its external research and public health partners (e.g., further public health—clinical decision support integration); (8) provides CSELS and CDC an optimal (i.e. flexible and scalable) environment for the rapid development of prototype and pilot public health informatics solutions for collaboration, testing and evaluation purposes; (9) participates and represents CDC within innovation committees, workgroups, organizations, and councils, within CDC and with other federal agencies as well; (10) facilitates public health informatics innovation within the public health community, through partner outreach and collaboration, using crowdfunding, challenge grants, and other novel cost-efficient mechanisms; (11) performs relevant knowledge dissemination to CDC and its partners via multiple modalities, including presentations, manuscripts, and web-based content; (12) provides education to fellows, colleagues, and partners on tools, techniques, and methodologies; and (13) provides regular updates to CSELS leadership as to the status of all projects in the technology lab.

Business Management Office (CPN18). (1) Provides leadership, oversight, and guidance in the management and operations of Center program offices and divisions; (2) plans, coordinates, and provides administrative management support, advice, and guidance to divisions, involving the areas of fiscal management, procurement, property management, personnel, travel, and other administrative services; (3) coordinates the development of the Center's annual budget request; (4) conducts management analyses ensure optimal utilization of resources and accomplishment of program objectives; (5) plans, allocates, and monitors program resources; (6) liaises and collaborates with other CDC components and external organizations in support of operations; (7) works closely with other federal agencies involved with program interagency agreements; (8) coordinates requirements relating to procurement, grants, cooperative agreements, materiel management, and interagency agreements; (9) provides fiscal management and stewardship of grants, contracts, and cooperative agreements; (10) develops and implements administrative policies, procedures, and operations, as appropriate for the Center and divisions, and prepares special reports and studies, as required, in the administrative management areas; (11) ensures Center and divisions adhere to the Agency's security guidance, regulations and best practices; (12) provides expertise and support to the Center and divisions in the areas of portfolio management, project execution, and leadership; (13) coordinates all enterprise-wide IT security policies and procedures with the Office of the Chief Information Security Officer; (14) ensures operations are in accordance with CDC Capital Planning and Investment Control guidelines; (15) ensures adherence to CDC enterprise architecture guidelines and standards; and (16) consults with users to determine IT needs and to develop strategic a action plans.

Program Integration Activity (CPN19). (1) Provides coordination internally and externally to help ensure that the Center's organizations are current in emergency preparedness and response capabilities through information dissemination, and planning; (2) links relevant strategies and priorities of the Center's divisions; (3) facilitates ongoing implementation of surveillance, epidemiology, laboratory and public health workforce development activities across the divisions and interfaces with other CDC CIOs; (4) provides planning and coordination of overall surveillance strategies, preparedness, response and prevention effectiveness related to a center-wide public health scientific agenda and in quantifying how programs and activities promote cost-effective and high impact prevention strategies; (5) ensures multidisciplinary approach to epidemiology, statistics, informatics, laboratory methods and evaluation; and (6) ensures appropriate integration of the Center's priority initiatives.

Division of Laboratory Programs, Standards and Services (CPNB). The mission of the Division of Laboratory Programs, Standards and Services (DLPSS) is to provide leadership, support and cross-cutting services to continuously strengthen the quality of laboratory science, policy and practice at CDC and in the United States (U.S.). DLPSS strives to strengthen state and local public health laboratories' ability to perform their critical role in protecting the public's health. In carrying out this mission, DLPSS: (1) Fosters connectivity and collaboration across the laboratory community; (2) enhances integration of laboratory science practice and informatics into public health and patient care; (3) develops standards to enhance the performance of public health laboratory systems; (4) increases opportunities for the improving the quality of public health laboratory practices and services; (5) increases the capacity of the laboratory workforce; and (6) fosters a culture of efficiency and excellence.

Office of the Director (CPNB1). (1) Provides leadership and guidance on strategic planning and implementation, program priority setting, and policy development, to advance the mission of the division, the Center and CDC; (2) develops goals, objectives, and budget, monitors progress and allocation of resources, and reports accomplishments, future directions, and resource requirements; (3) directs and provides public health vision for laboratory science; (4) assists CDC labs in operating as “one-CDC” for lab science, research, policy and practice; (5) conducts research for quality improvement laboratory I practice to establish evidence-based recommendations on best practices, reference materials and intervention to improve the integration of laboratory medicine into health care and public health; (6) collaborates with subject-matter experts to integrate technical content with cutting-edge instructional design concepts to effectively transfer laboratory skills and new methodologies; (7) collaborates with the U.S. Food and Drug Administration (FDA) to communicate regulatory requirements for laboratory developed tests and in-vitro diagnostics to CDC laboratories and assists them in meeting these requirements; (8) ensures compliance with federal regulations for the possession, use and transfer of select agents and toxins within CDC's registered laboratories and supporting space; (9) safeguards valuable biological samples, collected agency studies, outbreaks, and research projects to help address future public health needs; (10) oversees and manages training and the Intuitional Biosecurity Board to support the implement of Dual Use Research of Concern oversight at CDC; (11) collaborates with the Centers for Medicare and Medicaid Services (CMS) to develop regulatory standards for the Clinical Improvement Amendments (CLIA) program; (12) advises the Center OD on matters relating to laboratory science and coordinates division responses to requests for technical assistance or information on activities supported by the division; (13) develops and produces guidance documents to meet the needs of internal and external partners, division programs, and mission; and (14) represents the division at official professional and scientific meetings, both within and outside of CDC.

Business Management Activity (CPNB12). (1) Provides leadership, oversight, and guidance in the management and operations of the DLPSS programs; (2) plans, coordinates, and provides administrative management support, advice, and guidance to DLPSS, involving the areas of fiscal management, procurement, property management, personnel, travel, and other administrative services; (3) coordinates the development of the DLPSS annual budget request; (4) conducts management analyses of DLPSS programs and staff to ensure optimal utilization of resources and accomplishment of program objectives; (5) plans, allocates, and monitors DLPSS resources; (6) maintains liaison and collaborates with other CDC components and external organizations in support of DLPSS management and operations; (7) works closely with other federal agencies involved with DLPSS interagency agreements; (8) coordinates DLPSS requirements relating to procurement, grants, cooperative agreements, materiel management, and interagency agreements; (9) provides fiscal management and stewardship of grants, contracts, and cooperative agreements; and (10) develops and implements administrative policies, procedures, and operations, as appropriate for DLPSS, and prepares special reports and studies, as required, in the administrative management areas.

Laboratory Services and Compliance Branch (CPNBB). (1) Provides scientific consultation, training, and technical assistance on federal safety regulations and requirements to CDC laboratories and program staff; (2) ensures implementation of federal safety regulations and requirements across CDC laboratories; (3) provides agency oversight and coordination of policies and practices of dual-use research and concern; (4) provides agency oversight and coordination of specimen inventory management to improve support for CDC research and laboratory operations; (5) maintains compliance with the Select Agent rule (42 CFR Part 73) for Select Agents housed within the CDC; and (6) provides coordination of policies and practices and technical support to CDC laboratories of overarching quality management issues and compliance with FDA regulations pertaining to laboratory diagnostics.

Laboratory Training Branch (CPNBC). (1) Provides advanced laboratory training to maintain a competent, prepared, and sustainable national and global laboratory workforce; (2) analyzes, designs, develops, and implements effective needs-based training pertaining to public health laboratory methodology and technology; (3) evaluates the efficiency and effectiveness of public health laboratory education and training for state and local public health, clinical, military, CDC, and other federal agency laboratorians; (4) evaluates the effectiveness and measures the outcomes of all training to ensure a high quality product for all end users; (5) provides technical support and administration coordination for the American Public Health Laboratories (APHL) cooperative agreement with CDC; (6) provides cross-agency and external stakeholder coordination on interoperability of laboratory information management systems; and (7) provides guidance and support regarding laboratory informatics, including systems and data exchange to stakeholders at local, state, federal, and global levels.

Laboratory Practice Standards Branch (CPNBD). (1) Encourages the establishment and adoption of mandatory and voluntary standards for laboratory practice; (2) assists CMS in the implementation of the CLIA; (3) coordinates and conducts standards development, validation, and review activities that provide support to CMS in its development and revision of the CLIA standards and guidelines; (4) provides technical assistance to CMS in its review of laboratory accreditation programs, state laboratory licensure programs, and proficiency testing programs; (5) provides technical assistance to CMS in responding to inquiries, especially pertaining to issues relating to testing complexity, personnel, quality control/quality assessment, and proficiency testing; (6) evaluates the applicability of CLIA quality standards to new laboratory technology and methodologies and, when necessary, assists in the establishment of appropriate alternative quality assurance measures; (7) performs review of CMS' guidelines for CLIA program implementation and oversight; (8) provides scientific support for issues relative to the development and implementation of cytology standards; (9) assists in the development and review of voluntary laboratory performance standards and guidelines; (10) disseminates information about laboratory standards and practices; (11) provides materials, forums, briefings, and assistance to CDC and external organizations in the interpretation, understanding, and implementation of the CLIA regulations; and (12) collaborates with other components of CDC in carrying out the above functions.

Laboratory Research and Evaluation Branch (CPNBE). (1) Encourages the establishment and adoption of performance standards for laboratory practice; (2) develops, evaluates, and implements systems for measuring and assessing laboratory quality; (3) facilitates and conduct research and demonstration projects to support the scientific development of performance standards, evaluation systems, and regulatory standards, and assesses the efficacy of established standards; (4) develops, promotes, implements, and evaluates intervention strategies to correct general performance deficiencies in health laboratory systems and worker competencies; (5) provides a forum for exchange of information about laboratory practice and research and development activities to promote the coordination of federal, state, and clinical laboratory improvement efforts; (6) coordinates and conducts activities that provide technical and scientific support to CMS in its evaluation, development, and revision of standards and guidelines; (7) monitors and evaluates current and emerging practices in genomics to improve quality and promote access to genetics testing; and (8) collaborates with other components of the CDC in carrying out the above functions.

Division of Epidemiology, Analysis and Library Services (CPNC). The primary mission of the Division of Epidemiology, Analysis and Library Services (DEALS) is to collaborate with our CDC and state and local public health partners to create and promote quality, timely and useful cross-cutting scientific products and services in order to strengthen the science of public health and ultimately to improve public health decision-making. In carrying out its mission, DEALS: (1) Provides leadership and overall direction for execution of programs that support the development and dissemination of epidemiological resources and analytical methods for improving population health; that identify what works in community preventive services and that serve as a hub of research, information exchange, and learning for the CDC community; (2) establishes division goals, objectives and priorities and assures alignment with the Center's and CDC goals, objectives and priorities; (3) provides leadership and guidance for a portfolio of projects and activities that address cross cutting topics including measurement of population health and health disparities, assessment of health and economic impact, analytic data management, software development for epidemiologic investigations, and systematic reviews of community preventive services; (4) supports the development and dissemination of publications and reports on cross cutting topics and community preventive services; (5) provides access to literature and science databases, and reference and systematic review support; (6) monitors progress in implementation of division projects and activities that support the achievement of CDC and the Center's goals, objectives, and priorities; (7) provides oversight and approval of scientific products including manuscripts, Web sites, databases, reports, and other documents; (8) assures compliance with all federal rules and regulations regarding research with human subjects and the use of published literature; (9) develops curriculum, training, and consultation services for CDC and other federal and non-federal partners to foster the development of skills in epidemiologic and analytic methodologies, systematic reviews, library sciences, and information literacy; and (10) provides division level management, administration, support services, and coordinates with appropriate offices on program and administrative matters.

Office of the Director (CPNC1). (1) Provides leadership and guidance on strategic planning and implementation, program priority setting, and policy development, to advance the mission of the division, the Center and CDC; (2) develops goals, objectives, and budget; monitors progress and allocation of resources, and reports accomplishments, future directions, and resource requirements; (3) develops, implements and evaluates long term research and programmatic agendas for analytic methods development, the Community Guide, and library services; (4) facilitates scientific, policy, communication, technology, and program collaboration among divisions and centers, and between CDC and other federal/non-federal partners; (5) promotes advancement of science throughout the division, supports program evaluation, and ensures that research meets the highest standards in the field; (6) provides expertise and consultation in analytic and systematic review methods, and library sciences to planning, projects, policies and program activities; (7) advises the Center OD on matters relating to analytic methods development, the Community Guide, and library services; and coordinates division responses to requests for technical assistance or information on activities supported by the division; (8) develops and produces communications tools and public affairs strategies to meet the needs of division programs and mission; and (9) represents the division at official professional and scientific meetings, both within and outside of CDC.

Analytic Tools and Methods Branch (CPNCB). (1) Supports the development and dissemination of epidemiologic resources and analytic tools and methods for improving population health, including but not limited to measurement of population health and health disparities, assessment of health and economic impact, community health needs assessment and improvement, data management and analytic capacity building, and epidemiological software for data collection, management, and analysis; (2) supports and conducts applied research in collaboration with CDC scientists that expands the scope of analytic methods capabilities and public health science; (3) coordinates CDC access to large complex health related data sets; (4) provides assistance and consultation on analytic methods, analytic data management, and analysis of complex data to other units within CDC; (5) participates with CDC and other federal and non-federal partners in developing indicators, methods, and statistical procedures for assessing and monitoring the health of communities and measuring the effectiveness of community interventions; (6) develops, maintains, and improves epidemiologic tools for data collection, data management, and data analysis, including Epi Info; (7) provides training, technical assistance, and support to public health partners and entities using Epi Info for outbreak investigations, studies, and surveillance; (8) collaborates with national and global partners to promote inter-operability of public health tools for outbreak management, surveillance, and research applications; and (9) participates with CDC and other federal and non-federal partners in developing indicators, methods, and statistical procedures for measuring and reporting health disparities.

Community Guide Branch (CPNCC). (1) Convenes and supports the independent Community Preventive Services Task Force (CPSTF); (2) oversees production of the systematic reviews that serve as the foundation for CPSTF findings and recommendations; (3) coordinates and manages large and diverse teams of internal and external partners in the systematic review process; (4) participates with other CDC programs, HHS, and non-governmental partners in developing and/or refining methods for conducting systematic reviews; (5) assists CDC and other federal and non-federal partners in understanding, using, and communicating methods for conducting systematic reviews; (6) produces and promotes the use of the Guide to Community Preventive Services (aka Community Guide); (7) communicates the Community Guide reviews, recommendations, and research needs in the American Journal of Preventive Medicine and the MMWR publications as well as via other journals, books, documents, the world wide Web, and other media; (8) participates with other CDC programs, HHS and nongovernmental partners in disseminating Community Guide reviews, recommendations, and research needs to appropriate audiences throughout the U.S. health care and public health systems, and their multi-sectoral partners; (9) participates with other CDC programs, HHS, and other federal and non-governmental partners in developing policies, and processes for referencing Community Guide findings in research and programmatic funding announcements, with the aim of increasing use of Community Guide findings and filling evidence gaps; (10) participates with other CDC programs, HHS, and nongovernmental partners in developing and/or refining methods for implementing Community Guide recommendations; (11) provides consultations for implementing Community Guide recommended strategies; (12) participates in the development of national and regional public/private partnerships to enhance prevention research and the translation of evidence into policy and action; (13) assists CDC and other federal and non-federal partners in linking reviews of evidence to guidelines development and/or program implementation; and (14) designs and conducts programmatic, process and outcome evaluation strategies for all stages of development and diffusion of the Community Guide.

Library Science and Services Branch (CPNCD). (1) Delivers credible, timely information from scientific and health literature to CDC scientists through the provision of library operations; information, reference, and research services, education and outreach services, knowledge management, systems, and technology support, marketing of services and outreach activities and administrative services; (2) maintains state-of-the-art library and information systems and discovery tools to deliver efficient and timely access to books, journals, data, and services; (3) monitors and evaluates usage of services and resources to optimize collections; (4) develops and offers training supporting scientific endeavors and research administration; (5) develops, curates, and sustains archives of public health information to document CDC's role in key public health missions; and (6) works collaboratively with public health partners to increase access to evidence-based literature and in support of the public health workforce.

Division of Scientific Education and Professional Development (CPND). The primary mission of the Division of Scientific Education and Professional Development (DSEPD) is to provide leadership in public health training and education and manage evidence-based programs to prepare the health workforce to meet public health challenges of the 21st century. In carrying out its mission, DSEPD: (1) Plans, directs and manages programs that develop the future public health workforce and support the existing workforce; (2) provides leadership in scientific approaches to education of the workforce, including quality assurance, technical consultation and evaluation of scientific workforce development and education; and (3) provides leadership to coordinate CDC and partner strategic workforce initiatives to increase capability of existing workforce, expand pipeline programs to recruit new talent, and strengthen systems to support the workforce.

Office of the Director (CPND1). (1) Provides leadership and overall direction for DSEPD; (2) develops goals and objectives, and provides leadership, policy formation, scientific oversight, and guidance in scientific education and professional development program planning and development; (3) plans, coordinates, and develops workforce-related research plans for DSEPD; (4) ensures adherence and provides training to DSEPD on CDC and HHS science-related policies; (5) oversees and manages DSEPD clearance process for scientific, technical, and programmatic documents; (6) coordinates all DSEPD program reviews; (7) reviews, prepares, coordinates, and develops Congressional testimony and briefing materials; (8) assists DSEPD programs in establishing performance metrics and coordinates quarterly reviews with programs to ascertain status on meeting of the metrics; (9) coordinates DSEPD budget formulation/negotiation related to program initiatives and goals management; (10) identifies relevant scanning/benchmarking on scientific education and professional development processes, services, and products; (11) provides leadership and guidance on new developments and national trends for public health workforce education and training; (12) establishes policies and standards for public health education and training activities/initiatives, including but not limited to, competency development, quality assurance, and evaluation, and works collaboratively within DSEPD and other components of CDC to ensure their implementation and adoption; (13) manages pilot fellowship programs in early stages of development, as needed; (14) develops and manages unified DSEPD-wide administrative systems and advocates and supports the commitment of resources to application development; (15) coordinates management information systems, including the Fellowship Management System (FMS), and analyses of data for improved utilization of DSEPD resources; and (16) directs systems analysis and design, programming, and systems training as it relates to implementation of new and existing administrative, management, and executive information systems.

Program and Workforce Activity (CPND12). (1) Provides leadership to coordinate CDC and partner strategic workforce initiatives to increase capability of existing workforce, expand pipeline programs to recruit new talent, and strengthen systems to support the workforce; (2) plans, directs, and manages workforce pipeline programs targeting elementary through undergraduate level students, intended to increase the number of individuals aware of and choosing a career in public health; (3) sponsors complementary activities to train teachers to develop lesson plans of public health significance for middle and high school students; (4) fosters closer linkages between academia and public health practice; (5) provides technical consultation to academic institutions regarding improvement of their experiential learning opportunities; (6) supports and provides oversight for cooperative agreements with academic partner organizations (e.g., Association of Schools of Public Health, Association of American Medical Colleges, Association for Prevention Teaching and Research, American Association of Colleges of Nursing) to enhance development of public health and health professionals skilled in improving the health of populations; (7) works with partners in academia, state and local health agencies, public health and health professional organizations to address public health educational needs, including developing population health competencies for academia to improve health professional education (e.g., schools of medicine, nursing, and public health); and (8) supports translation of lessons learned among academic institutions, e.g., through toolkits or workshops.

Business Management Activity (CPND13). (1) Provides leadership, oversight, and guidance in the management and operations of DSEPD programs; (2) plans, coordinates, and provides administrative management support, advice, and guidance to DSEPD involving the areas of fiscal management, procurement, property management, personnel, travel, and other administrative services; (3) coordinates with DSEPD/OD, the Human Resources Office, the Procurement and Grants Office, and the Office of the Chief Financial Officer on administrative guidance and oversight in the areas of personnel, procurement, budget, travel, and other administrative services; (4) coordinates the development of the DSEPD annual budget request; (5) conducts management analyses o DSEPD programs and staff to ensure optimal utilization of resources and accomplishment of program objectives; (6) plans, allocates, and monitors DSEPD resources; (7) maintains liaison and collaborates with other CDC components and external organizations in support of DSEPD management and operations; (8) works closely with other federal agencies involved with DSEPD interagency agreements; (9) coordinates DSEPD requirements relating to procurement, grants, cooperative agreements, materiel management, and interagency agreements; (10) provides fiscal management and stewardship of grants, contracts, and cooperative agreements; and (11) develops and implements administrative policies, procedures, and operations, as appropriate for DSEPD, and prepares special reports and studies, as required, in the administrative management areas.

Educational Design, Consultation, and Accreditation Branch (CPNDB). (1) Plans, directs, and manages training design, development, consultation, and accreditation activities for entry level public health professionals and the existing public health workforce; (2) develops educational research agenda and conducts educational research to identify best practices and methods for developing the public health workforce; (3) develops evidence-based policies and standards for public health education and training activities/initiatives, including but not limited to, competency development, quality assurance, and evaluation, and provides technical assistance within DSEPD and other components of CDC to ensure their implementation and adoption; (4) develops and implements a crosscutting framework for planning and evaluating fellowship training programs that is responsive to the needs of CDC's internal workforce and to the needs of DSEPD's external partners; (5) develops and maintains appropriate liaisons with all fellowship programs in DSEPD, and provides technical assistance to other programs across the Agency to ensure the development of rigorous educational programs based on the science of adult learning and educational psychology; (6) facilitates a cross-cutting approach and sharing of educational/evaluation lessons learned and tools across DSEPD programs, as well as other programs across the agency; (7) provides leadership in planning and implementation of the educational component of the complex, integrated FMS to ensure data requirements are consistent with the evaluation framework, to capture educational outcomes of fellowships; (8) provides consultation, guidance, and technical assistance to course developers, incorporating principles of learning theory to ensure consistent design and delivery of accredited educational activities; (9) maintains knowledge of continuing education standards and applies quality assurance practices required to uphold national accreditations; (10) assesses need and demand for additional accreditations to support professional license and certification needs of technical and professional staff within the health workforce; (11) develops and maintains internal and external partnerships to foster best practices in the design and delivery of educational activities and training; (12) maintains knowledge of information technology and learning standards as they apply to education and training to demonstrate and promote compliance and best practices by CDC programs; (13) applies the principles of instructional systems design and learning theory to design, develop, deliver, and evaluate informational and instructional products; (14) implements and maintains the CDC Training and Continuing Education Online web-based accreditation and registration system; (15) maintains and updates the CDC Learning Connection (including CDC TRAIN), an online portal that stores and delivers high quality public health training products and resources from one central location at CDC to all members of the public health community; (16) adapts information systems and processes to reflect current best practices and adherence to accreditation requirements; and (17) provides technical assistance and guidance to learners to ensure accreditation and learner support.

Epidemiology Workforce Branch (CPNDC). (1) Plans, directs, and manages CDC-wide training and service programs for teaching and training future public health professionals, and supports the existing workforce in applied epidemiology, including but not limited to the Epidemic Intelligence Service Program; (2) establishes and implements overall policies, plans, and procedures, and evaluates the effectiveness of fellowship program activities, including monitoring the completion of program activities by EIS officers (EISOs) and evaluating the quality of assignments through site visits and by maintaining liaison with supervisors of EISOs within CDC and in field assignments; (3) coordinates the assignment and deployment of EISOs in response to natural disasters, terrorist events, and other large scale public health emergencies; (4) provides technical assistance, consultation, resources, and training for DSEPD, other components of CDC, and the broader health workforce (e.g., state/local workers), including, but not limited to the development and dissemination of standard curricula, training, and related materials, in epidemiology; (5) maintains liaison with alumni within and outside CDC to assist with training, recruitment, and promotional activities; (6) responds to domestic and international requests for assistance and consultation (e.g., Epi-Aids); (7) maintains liaison with other governmental agencies, academic institutions and organizations, state and local health agencies, private health organizations, professional organizations, and other outside groups; (8) assumes an active national and international leadership role in applied epidemiology training; and (9) collaborates, as appropriate, with the CDC/OD, other CIOs, and domestic and international agencies to carry out the functions of the branch.

Health Systems Integration Workforce Branch (CPNDD). (1) Plans, directs, and manages CDC-wide training and service programs for teaching and training future public health professionals, and supports the existing workforce in applied public health sciences, including but not limited to the Preventive Medicine Residency/Fellowship, Public Health Informatics Fellowship, Prevention Effectiveness Fellowship, and the Presidential Management Fellows Program; (2) operates and maintains an accredited preventive medicine residency program for physicians in CDC through the Accreditation Council for Graduate Medical Education and a complementary fellowship program for public health veterinarians; (3) establishes and implements overall policies, plans, and procedures, and evaluates the effectiveness of fellowship program activities, including monitoring the completion of program activities by fellows/residents and evaluating the quality of assignments through site visits by maintaining liaison with supervisors of fellows/residents within CDC and in field assignments; (4) coordinates the assignment and deployment of fellows/residents in response to natural disasters, terrorist events, and other large scale public health emergencies; (5) provides technical assistance, consultation, resources, and training for DSEPD, other components of CDC, and the broader health workforce (e.g., state/local workers), including, but not limited to the development and dissemination of standard curricula, training, and related materials, in preventive medicine, informatics, prevention effectiveness and leadership/management and policy; (6) maintains liaison with alumni within and outside CDC to assist with training, recruitment, and promotional activities; (7) responds to domestic and international requests for assistance and consultation (e.g., Info-Aids, Econ-Aids); (8) maintains liaison with other governmental agencies, academic institutions and organizations, state and local health agencies, private health organizations, professional organizations, and other outside groups; (9) assumes an active national and international leadership role in applied public health sciences training in preventive medicine, public health informatics, prevention effectiveness, and leadership/management, and policy; and (10) collaborates, as appropriate, with the CDC/OD, other CIOs, and domestic and international agencies to carry out the functions of the branch.

Division of Health Informatics and Surveillance (CPNE). The mission of the Division of Health Informatics and Surveillance (DHIS) is to advance the science and practice of public health informatics and surveillance. In carrying out its mission, DHIS: (1) Serves as a focal point at CDC for addressing common issues and advancing best practices in the fields of public health informatics and surveillance, and (2) manages public health surveillance systems with cross-cutting utility for multiple CDC programs. The disciplines of public health informatics and surveillance are strongly inter-related. Informatics addresses the collection, classification, storage, and retrieval and dissemination of recorded knowledge. Surveillance involves the collection, management, analysis, interpretation, and dissemination of information about the health of populations in order to inform and guide public health programs. DHIS strives to improve the usefulness and the impact of public health surveillance and to improve information and knowledge management across the public health enterprise information technology and health information exchange, in public health informatics and surveillance.

Office of the Director (CPNE1). (1) Identifies and disseminates evidence-based information regarding best practices for public health surveillance and information management; (2) plans, directs, enhances and collaboratively supports national surveillance programs and information technology initiatives to include Biosense and National Notifiable Disease Surveillance System (NNDSS), improving the nation's capability to monitor disease and provide public health situational awareness; (3) contributes to surveillance and informatics functions that are part of CDC's public health preparedness and response activities; (4) promotes a multidisciplinary approach (epidemiology, statistics, informatics, program evaluation, economic, qualitative, etc.) to assure that CDC surveillance and information systems serve public health program objectives; (5) coordinates the establishment and maintenance of select internal CDC processes for decision-making regarding shared surveillance and informatics policies, practices, standards, and services that have applicability throughout CDC; (6) collaborates and coordinates with all CDC organizations on informatics and HIT issues and the interrelationships between informatics and IT services; (7) plans, directs, enhances and collaboratively supports national information technology and surveillance initiatives that support the nation's capability to monitor disease and provide public health situational awareness; (8) develops, recommends or implements policies and procedures relating to information management, informatics resource management, support services, and surveillance as appropriate; (9) facilitates coordination of informatics and surveillance activities across local, state, and federal jurisdictions/agencies; (10) contributes to informatics and surveillance functions that are part of CDC's public health preparedness and response activities; (11) optimizes the portfolio of CDC's informatics projects and systems by identifying and facilitating opportunities for cross-coordinating national CIOs collaboration in order to leverage investments and promote efficiency and integration; (12) collaborates and coordinates with CDC organizations on informatics and HIT issues; (13) works closely with the Office of the Chief Information Officer on the interrelationships between informatics and IT; (14) leads the development of policy, long-range plans, and programs of the division; (15) coordinates the establishment and maintenance of internal processes for decision-making regarding shared informatics and surveillance policies, practices, standards, and services that have applicability throughout CDC; (16) leads the development of all communications strategies, tools and messages for the division; (17) coordinates the establishment and maintenance of internal processes for decision-making regarding effective communications; and (18) identifies and disseminates evidence-based information regarding best practices for public health surveillance and information management.

Business Services Activity (CPNE12). (1) Provides leadership, oversight, and guidance in the management and operations of DHIS programs; (2) plans, coordinates, and provides administrative management support, advice, and guidance to the DHIS, involving the areas of fiscal management, procurement, property management, personnel travel, and other administrative services; (3) coordinates the development of annual budget request; (4) conducts management analyses of the division and programs and staff to ensure optimal utilization of resources and accomplishment of program objectives; (5) plans, allocates, and monitors resources; (6) maintains liaison and collaborates with other CDC components and external organizations in support of the division management and operations; (7) works closely with other federal agencies involved with interagency agreements; (8) coordinates division requirements relating to procurement, grants, cooperative agreements, material management, and interagency agreements; (9) provides fiscal management and stewardship of grants, contracts, and cooperative agreements; and (10) develops and implements administrative policies, procedures, and operations, as appropriate, for the division, and prepares special reports and studies, as required, in the administrative management areas.

Informatics Services Branch (CPNEB). (1) Provides innovative informatics solutions and services supporting integration of systems for CDC programs and external partners, and for the enhancement of informatics capabilities of public health generally; (2) analyzes the information needs of public health programs and develops strategic solutions to address them; (3) provides expertise including subject matter expert (SME) technical support to client programs in IT systems design, project management, data interchange strategies, data management, IT security, IT architecture, systems integration, technical standards, current technologies and best practices, rules governing federal information systems, and protocols for deploying and operating systems at CDC; (4) identifies opportunities for and develops shared IT components that can be utilized by multiple programs and partners in order to increase efficiency, decrease cost, and promote interoperability and information sharing; (5) identifies opportunities for and develops IT services that assist CDC programs and external partners, including modernization of legacy applications; (6) provides expertise in and develops specifications for standards-based data interchanges for use by public health programs and provides supporting services for electronic messaging such as online vocabulary management, message validation, security and credential management, routing and directory management; (7) provides management of large, complex datasets and major IT investments including NNDSS and Biosense; (8) provides data processes for transforming and translating data into useable form for scientific analysis, and provides mechanisms to make data accessible and available; (9) provides direct consultation and technical assistance to CDC programs and to external partners in order to help them achieve the technical and informatics capabilities as well as appropriate security for developed systems/tools required or endorsed by CDC; (10) provides operational support of multiple public health programs through provision of informatics and IT services, public use data sets via the Internet (WONDER) and data to programs; (11) provides support and technical assistance for ICD-10 transition; and (12) manages the development of a Reportable Conditions Knowledge Management System in support of electronic case reporting.

Public Health Information Support Branch (CPNEC). (1) Provides leadership to CSELS, CDC, and other organizations to promote and support effective public health surveillance for notifiable diseases and conditions which currently includes the operations and maintenance of Biosense and NNDSS; (2) enhances and maintains partnerships with other federal agencies, state and local public health departments, national organizations, health plans, care networks, regional health information exchanges to meet public health informatics needs; (3) works towards more efficient and effective public health information systems by aligning informatics solutions with HIT policies and translating emerging science, research and learning into practice; (4) provides analysis and reporting for MMWR tables based on NNDSS data; (5) coordinates with the Council of State and Territorial Epidemiologists with regard to notifiable diseases designations; (6) provides SME support to STLT programs on procedures, policies and analysis with regard to Biosense; manages quality assurance around related data use agreements and governance (7) leverages other data sources for syndromic surveillance and provides oversight for data quality and analytics; and (8) develops and fosters adoption of informatics standards.

Program Support Branch (CPNED). (1) Supports CDC and STLT programs in the conduct of national surveillance; (2) provides financial support to NNDSS via the Epidemiology and Laboratory Capacity (ELC) cooperative agreement; (3) provides development and support for extramural activities, including cooperative agreements and grants, and coordinates technical assistance and consultations for major projects with key public health partners; (4) supports Biosense via cooperative agreements with STLTs; (5) provides Public Health Information Network technical assistance/certification; (6) supports educational opportunities and collaborations; (7) provides cooperative agreement funding to public health organizations and manages numerous cooperative agreements and memberships; (8) provides funding to academic institutions for special projects; and (9) collaborates with the National Center for Emerging and Zoonotic Infectious Diseases to monitor the national implementation of electronic laboratory reporting (ELR), including monitoring ELC funded activities for ELR and guiding APH ELR technical assistance activities.

After the School Health Branch (CUCPG), Division of Population and Health Promotion (CUCP), National Center for Chronic Disease Prevention and Health Promotion (CUC), insert the following:

Population Health Surveillance Branch (CUCPH). (1) Plans and directs all activities related to the Behavioral Risk Factor Surveillance System (BRFSS), the nation's premier system of health surveys that collect state data about United States residents regarding their health-related risk behaviors, chronic health conditions, and use of preventive services; (2) coordinates BRFSS surveillance activities across all states and CDC programs; (3) provides support to build state capacity for BRFSS survey operations, data management, analysis, dissemination, and use of the data by state agencies to set public health priorities and monitor public health programs; (4) develops guidelines and criteria for the enhancement of behavioral risk factor surveys at the state and local levels; (5) delivers timely behavioral risk factor data of high validity and reliability to states, CDC scientists, the national public health community, and the general public; (6) supports and enhances analysis and dissemination of information from the BRFSS to promote the broad use and application of BRFSS results and findings by policy and decision makers, public health professionals, and other relevant audiences through communication channels and formats appropriate to these constituencies; (7) plans and coordinates cross cutting research related to survey methodology; (8) provides scientific leadership and guidance to surveillance programs to assure highest scientific quality and professional standards related to BRFSS; (9) provides leadership to CDC, states and other organizations to support effective and flexible population health surveillance, including rapidly emerging public health issues and threats; and (10) provides administrative and management support, as required, for states and territories including oversight of BRFSS and other grants, cooperative agreements, and reimbursable agreements.

Dated: September 30, 2013.
Sherri A. Berger,
Chief Operating Officer, Centers for Disease Control and Prevention.

[FR Doc. 2013-27088 Filed 11-21-13; 8:45 am]

BILLING CODE 4160-18-M